NUCLEAR REGULATORY COMMISSION

[Docket No. 50-219; NRC-2018-0058]

Exelon Generation Company, LLC; Oyster Creek Nuclear Generating Station; Revision to License Condition 2.C.(5) Regarding BWRVIP-18

AGENCY: Nuclear Regulatory Commission.

ACTION: License amendment application; withdrawal by applicant.

SUMMARY: The U.S. Nuclear Regulatory Commission (NRC) has granted the request of Exelon Generation Company, LLC to withdraw its application dated August 30, 2017, for a proposed amendment to Renewed Facility Operating License No. DPR-16. The proposed amendment would have revised License Condition 2.C.(5) regarding the Electric Power Research Institute's (EPRI's) technical report BWRVIP-18, “BWR [Boiling Water Reactor] Vessel and Internals Project, BWR Core Spray Internals inspection and Flaw Evaluation Guidelines,” revision from December 2, 1999, to December 21, 2016.

DATES: March 21, 2018.

ADDRESSES: Please refer to Docket ID NRC 2018-0058 when contacting the NRC about the availability of information regarding this document. You may obtain publicly-available information related to this document using any of the following methods:

• Federal Rulemaking website: Go to http://www.regulations.gov and search for Docket ID NRC-2018-0058. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: John G. Lamb, Office of Nuclear Reactor Regulation, U.S. Nuclear Regulatory Commission, Washington DC 20555-0001; telephone: 301-415-3100, email: john.lamb@nrc.gov.

SUPPLEMENTARY INFORMATION:

The NRC has granted the request of Exelon Generation Company, LLC (the licensee) to withdraw its August 30, 2017, application (ADAMS Accession No. ML17242A211), for a proposed amendment to Renewed Facility Operating License No. DPR-16 for the Oyster Creek Nuclear Generating Station, located in Ocean County, New Jersey.

The proposed amendment would have revised License Condition 2.C.(5) regarding EPRI's technical report BWRVIP-18, “BWR Vessel and Internals Project, BWR Core Spray Internals inspection and Flaw Evaluation Guidelines,” revision from December 2, 1999, to December 21, 2016.

The Commission has previously issued a proposed finding that the amendment involves no significant hazards consideration, and there has been no public comment on such finding published in the Federal Register on October 10, 2017 (82 FR 47037). However, by letter dated February 15, 2018 (ADAMS Accession No. ML18047A023), the licensee requested to withdraw the proposed amendment.

Dated at Rockville, Maryland, this 16th day of March 2018.
For the Nuclear Regulatory Commission.
John G. Lamb,
Senior Project Manager, Special Projects and Process Branch, Division of Operating Reactor Licensing, Office of Nuclear Reactor Regulation.

[FR Doc. 2018-05690 Filed 3-20-18; 8:45 am]

BILLING CODE 7590-01-P